INTERNATIONAL TRADE COMMISSION

[Investigation No. 337-TA-1342]

Certain Semiconductor Devices Having Layered Dummy Fill, Electronic Devices, and Components Thereof; Notice of the Commission's Determination Not To Review an Initial Determination Terminating the Investigation Based on Withdrawal of the Complaint; Termination of the Investigation

AGENCY: U.S. International Trade Commission.

ACTION: Notice.

SUMMARY: Notice is hereby given that the U.S. International Trade Commission has determined not to review the presiding chief administrative law judge's (“CALJ”) initial determination (“ID”) (Order No. 25) terminating the investigation in its entirety based on Complainant's withdrawal of the complaint.

FOR FURTHER INFORMATION CONTACT: Edward S. Jou, Esq., Office of the General Counsel, U.S. International Trade Commission, 500 E Street SW, Washington, DC 20436, telephone (202) 205-3316. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on November 29, 2022, based on a complaint filed by Bell Semiconductor, LLC of Bethlehem, Pennsylvania (the “Complainant”). 87 FR 73330-31 (Nov. 29, 2022). The complaint, as supplemented, alleges violations of section 337 of the Tariff Act of 1930, as amended, 19 U.S.C. 1337, based upon the importation into the United States, the sale for importation, and the sale within the United States after importation of certain semiconductor devices having layered dummy fill, electronic devices, and components thereof by reason of infringement of certain claims of U.S. Patent No. 7,396,760. The notice of investigation named fifteen respondents. Id. The Office of Unfair Import Investigations (“OUII”) was also named as a party to the investigation. Id.

Twelve of the named respondents have been terminated from the investigation. Order No. 12 (Jan. 11, 2023), unreviewed by Comm'n Notice (Feb. 8, 2023), Order No. 20 (Mar. 14, 2023), unreviewed by Comm'n Notice (Apr. 3, 2023), and Order No. 21 (Mar. 28, 2023) unreviewed by Comm'n Notice (Apr. 21, 2023). The three remaining respondents are Omnivision Technologies, Inc., Skyworks Solutions, Inc., and Arlo Technologies, Inc. (the “Respondents”).

On May 8, 2023, Complainant filed a motion to terminate the investigation based on the withdrawal of its allegations against the three remaining Respondents, pursuant to an agreement with non-party Siemens Industry Software, Inc. (“Siemens”). On June 9, 2023, the presiding CALJ issued Order No. 23 granting the motion to terminate the investigation.

On July 11, 2023, the Commission determined to review Order No. 23, and on review, vacated the termination of the investigation and remanded the investigation for further proceedings, because Complainant did not comply with Commission Rule 210.21(a)(1), which requires filing a copy of “any agreements concerning the subject matter of the investigation.” 19 CFR 210.21(a)(1).

On September 1, 2023, Complainant filed a renewed motion to terminate the investigation based on the withdrawal of its allegations against the three remaining Respondents, attaching a copy of its agreement with non-party Siemens. On September 13, 2023, OUII filed a response in support of the renewed motion. No other responses were filed.

On September 14, 2023, the presiding CALJ issued the subject ID granting the renewed motion to terminate the investigation and finding that Complainant complied with the requirements of Commission Rule 210.21(a)(1). No petitions for review of the ID were filed.

The Commission has determined not to review the subject ID. The investigation is hereby terminated in its entirety.

The Commission vote for this determination took place on October 11, 2023.

The authority for the Commission's determination is contained in section 337 of the Tariff Act of 1930, as amended (19 U.S.C. 1337), and in Part 210 of the Commission's Rules of Practice and Procedure (19 CFR part 210).

By order of the Commission.
Issued: October 12, 2023.
Lisa Barton,
Secretary to the Commission.

[FR Doc. 2023-22872 Filed 10-16-23; 8:45 am]

BILLING CODE 7020-02-P